DEPARTMENT OF DEFENSE

GENERAL SERVICES ADMINISTRATION

NATIONAL AERONAUTICS AND SPACE ADMINISTRATION

[OMB Control No. 9000-0135; Docket 2013-0077; Sequence 12]

Submission for OMB Review; Prospective Subcontractor Requests for Bonds

AGENCY: Department of Defense (DOD), General Services Administration (GSA), and National Aeronautics and Space Administration (NASA).

ACTION: Notice of request for public comments regarding an extension to an existing OMB clearance.

SUMMARY: Under the provisions of the Paperwork Reduction Act of 1995 (44 U.S.C. Chapter 35), the Regulatory Secretariat Division will be submitting to the Office of Management and Budget (OMB) a request to review and approve an extension of a previously approved information collection concerning subcontractor requests for bonds. A notice was published in the Federal Register 78 FR 56896 on September 16, 2013. One comment was received.

DATES: Submit comments on or before March 7, 2014.

ADDRESSES: Submit comments identified by Information Collection 9000-0135 by any of the following methods:

• Regulations.gov: http://www.regulations.gov.

Submit comments via the Federal eRulemaking portal by searching the OMB control number 9000-0135. Select the link “Comment Now” that corresponds with “Information Collection 9000-0135, Prospective Subcontractor Requests for Bond.” Follow the instructions provided on the screen. Please include your name, company name (if any), and “Information Collection 9000-0135, Prospective Subcontractor Requests for Bond” on your attached document.

• Fax: 202-501-4067.

• Mail: General Services Administration, Regulatory Secretariat Division (MVCB), 1800 F Street NW., 2nd Floor, Washington, DC 20405-0001. ATTN: Ms. Flowers/IC 9000-0135.

Instructions: Please submit comments only and cite Information Collection 9000-0135, in all correspondence related to this collection. All comments received will be posted without change to http://www.regulations.gov, including any personal and/or business confidential information provided.

FOR FURTHER INFORMATION CONTACT: Ms. Cecelia L. Davis, Procurement Analyst, Acquisition Policy Division, GSA 202-219-0202 or email Cecelia.davis@gsa.gov.

SUPPLEMENTARY INFORMATION:

A. Purpose

Part 28 of the Federal Acquisition Regulation contains guidance related to obtaining financial protection against damages under Government contracts (e.g., use of bonds, bid guarantees, insurance etc.). Part 52 contains the texts of solicitation provisions and contract clauses. These regulations implement a statutory requirement for information to be provided by Federal contractors relating to payment bonds furnished under construction contracts which are subject to 40 U.S.C. chapter 31, subchapter III, Bonds. This collection requirement is mandated by Section 806 of the National Defense Authorization Act for Fiscal Years 1992 and 1993 (Pub. L. 102-190), as amended by Section 2091 of the Federal Acquisition Streamlining Act of 1994 (Pub. L. 103-335). The clause at FAR 52.228-12, Prospective Subcontractor Requests for Bonds, implements Section 806(a)(3) of Public Law 102-190, as amended, which specifies that, upon the request of a prospective subcontractor or supplier offering to furnish labor or material for the performance of a construction contract for which a payment bond has been furnished to the United States pursuant to 40 U.S.C. chapter 31, subchapter III, Bonds, the contractor shall promptly provide a copy of such payment bond to the requestor.

In conjunction with performance bonds, payment bonds are used in Government construction contracts to secure fulfillment of the contractor's obligations under the contract and to assure that the contractor makes all payments, as required by law, to persons furnishing labor or material in performance of the contract. This regulation provides prospective subcontractors and suppliers a copy of the payment bond furnished by the contractor to the Government for the performance of a Federal construction contract subject to 40 U.S.C. chapter 31, subchapter III, Bonds. It is expected that prospective subcontractors and suppliers will use this information to determine whether to contract with that particular prime contractor. This information has been and will continue to be available from the Government. The requirement for contractors to provide a copy of the payment bond upon request to any prospective subcontractor or supplier under the Federal construction contract is contained in Section 806(a) (3) of Public Law 102-190, as amended by Sections 2091 and 8105 of Public Law 103-355.

B. Analysis of Public Comments

A notice was published in the Federal Register at 78 FR 56896 on September 16, 2013. One respondent submitted public comments on the extension of the previously approved information collection. The analysis of public comments is summarized as follows:

Comment: The respondent agrees that subcontractors and prospective subcontractors should have access to copies of the payment bonds and has advocated for this process. By having access to the bonds, the subcontractors and prospective subcontractors have the advantage of having insight on the prime contractor. At this time, the commenter does not have a recommendation for an alternative method for making this data available. However, the respondent recommends that alternatives be explored with associations involved and representing the surety industry.

Response: Because the respondent's suggestions neither question nor affect the information collection estimates included in this request for extension, the request for approval to extend this information collection will be submitted without change. However, the recommendation will be researched, and, as determined appropriate, revised as a separate action.

C. Annual Reporting Burden

No changes are being made to the burden.

Respondents: 14,628.

Responses per Respondent: 1.

Total Responses: 14,628.

Hours per Response: .25.

Total Burden Hours: 3,657.

Obtaining Copies of Proposals: Requesters may obtain a copy of the information collection documents from the General Services Administration, Regulatory Secretariat Division (MVCB), 1800 F Street NW., 2nd Floor, Washington, DC 20405, telephone 202-501-4755. Please cite OMB Control Number 9000-0135, Prospective Subcontractor Requests for Bonds, in all correspondence.

Dated: January 30, 2014.
Karlos Morgan,
Acting Director, Federal Acquisition Policy Division, Office of Government-wide Acquisition Policy, Office of Acquisition Policy, Office of Government-wide Policy.

[FR Doc. 2014-02350 Filed 2-4-14; 8:45 am]

BILLING CODE 6820-EP-P